DEPARTMENT OF TRANSPORTATION

Federal Aviation Administration

14 CFR Part 39

[Docket No. 2001-NE-14-AD; Amendment 39-12877; AD 2002-18-03]

RIN 2120-AA64

Airworthiness Directives; Rolls-Royce plc Models Spey 506-14A, 555-15, 555-15H, 555-15N, and 555-15P Turbojet Engines

AGENCY: Federal Aviation Administration, DOT.

ACTION: Final rule.

SUMMARY: This amendment adopts a new airworthiness directive (AD), that is applicable to Rolls-Royce plc (RR) Spey 506-14A, 555-15, 555-15H, 555-15N, and 555-15P turbojet engines. This amendment requires replacing certain stage 2 low pressure turbine (LPT) blades with new redesigned stage 2 LPT blades. This amendment is prompted by several reports of failures of stage 2 LPT blades. The actions specified by this AD are intended to prevent failure of the stage 2 LPT blades, which could result in an engine shutdown.

DATES: Effective October 16, 2002. The incorporation by reference of certain publications listed in the regulations is approved by the Director of the Federal Register as of October 16, 2002.

ADDRESSES: The service information referenced in this AD may be obtained from Rolls-Royce plc, PO Box 31, Derby DE24 6BJ, UK; Telephone 44 (0) 1332 242424; fax 44 (0) 1332 249936. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Keith Mead, Aerospace Engineer, Engine Certification Office, FAA, Engine and Propeller Directorate, 12 New England Executive Park, Burlington, MA 01803-5299; telephone (781) 238-7744; fax (781) 238-7199.

SUPPLEMENTARY INFORMATION: A proposal to amend part 39 of the Federal Aviation Regulations (14 CFR part 39) to include an AD that is applicable to RR Spey 506-14A, 555-15, 555-15H, 555-15N, and 555-15P turbojet engines was published in the Federal Register on April 18, 2002 (67 FR 19134). That action proposed to require replacing certain stage 2 low pressure turbine (LPT) blades with new redesigned stage 2 LPT blades in accordance with service bulletin (SB) No. Sp72-1064, Revision 1, dated February 1, 2001.

Comments

Interested persons have been afforded an opportunity to participate in the making of this amendment. No comments were received on the proposal or the FAA's determination of the cost to the public. The FAA has determined that air safety and the public interest require the adoption of the rule as proposed.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-18-03 Rolls-Royce plc: Amendment 39-12877. Docket No. 2001-NE-14-AD.

Applicability

This airworthiness directive (AD) is applicable to Rolls-Royce plc (RR) Spey 506-14A, 555-15, 555-15H, 555-15N, and 555-15P turbojet engines with stage 2 low pressure turbine (LPT) blades, part numbers (P/N's) JR34024 or JR34069 installed. These engines are installed on, but not limited to British Aerospace Airbus Ltd. BAC 1-11 and Fokker F.28 Mark 1000, Mark 2000, Mark 3000, and Mark 4000 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated, unless already done.

To prevent failure of the stage 2 LPT blades, which could result in an engine shutdown, do the following:

(a) Replace existing stage 2 LPT blades P/N's JR34024 and JR34069 with complete sets of serviceable blades in accordance with the Accomplishment Instructions of RR service bulletin Sp72-1064, Revision 1, dated February 2001, and the following compliance times:

(1) For RR Spey 506-14A engines, replace blades at the next piece-part opportunity, but no later than June 30, 2010.

(2) For Spey 555-15, 555-15H, 555-15N, and 555-15P turbojet engines, replace blades at the next piece-part opportunity, but no later than December 31, 2005.

Alternative Methods of Compliance

(b) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(c) Special flight permits may be issued in accordance with §§ 21.197 and 21.199 of the Federal Aviation Regulations (14 CFR 21.197 and 21.199) to operate the airplane to a location where the requirements of this AD can be done.

Documents That Have Been Incorporated By Reference

(d) The stage 2 LPT blades replacement must be done in accordance with Rolls-Royce plc SB No. Sp72-1064, Revision 1, dated February 2001. This incorporation by reference was approved by the Director of the Federal Register in accordance with 5 U.S.C. 552(a) and 1 CFR part 51. Copies may be obtained from Rolls-Royce plc, P.O. Box 31, Derby DE24 6BJ, UK; Telephone 44 (0) 1332 242424; fax 44 (0) 1332 249936. Copies may be inspected, by appointment, at the FAA, New England Region, Office of the Regional Counsel, 12 New England Executive Park, Burlington, MA; or at the Office of the Federal Register, 800 North Capitol Street, NW., suite 700, Washington, DC.

Note 3: The subject of this AD is addressed in CAA airworthiness directive 005-07-2000, dated July 21, 2000.

Effective Date

(e) This amendment becomes effective on October 16, 2002.

Issued in Burlington, Massachusetts, on August 29, 2002.
Francis A. Favara,
Acting Manager, Engine and Propeller Directorate, Aircraft Certification Service.

[FR Doc. 02-22758 Filed 9-10-02; 8:45 am]

BILLING CODE 4910-13-P